ENVIRONMENTAL PROTECTION AGENCY

40 CFR Part 52

[EPA-R04-OAR-2013-0147; FRL-9902-19-Region 4]

Approval and Promulgation of Implementation Plans; Atlanta, Georgia 1997 8-Hour Ozone Nonattainment Area; Reasonable Further Progress Plan

AGENCY: Environmental Protection Agency (EPA).

ACTION: Final rule.

SUMMARY: EPA is taking final action to approve a state implementation plan (SIP) revision, submitted by the State of Georgia, through the Georgia Environmental Protection Division (GA EPD), on October 21, 2009, to address the reasonable further progress (RFP) plan requirements for the Atlanta, Georgia 1997 8-hour ozone national ambient air quality standards (NAAQS) nonattainment area (hereafter referred to as the “Atlanta Area” or “the Area”). The Atlanta Area is comprised of Barrow, Bartow, Carroll, Cherokee, Clayton, Cobb, Coweta, Dekalb, Douglas, Fayette, Forsyth, Fulton, Gwinnett, Hall, Henry, Newton, Paulding, Rockdale, Spalding and Walton Counties in Georgia. EPA is also finding adequate the motor vehicle emissions budgets (MVEB) for volatile organic compounds (VOC) and nitrogen oxides (NOx) that were included in Georgia's RFP plan. Further, EPA is approving these MVEB. EPA is also responding to comments received on the Agency's May 29, 2013, direct final rulemaking to approve the RFP plan requirements for the Atlanta Area.

DATES: This rule is effective on December 4, 2013.

ADDRESSES: EPA has established a docket for this action under Docket Identification No. EPA-R04-OAR-2013-0147. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Ms. Sara Waterson of the Regulatory Development Section, in the Air Planning Branch, Air, Pesticides and Toxics Management Division, U.S. Environmental Protection Agency, Region 4, 61 Forsyth Street SW., Atlanta, Georgia 30303-8960. The telephone number is (404) 562-9061. Ms. Sara Waterson can be reached via electronic mail at waterson.sara@epa.gov.

SUPPLEMENTARY INFORMATION:

Table of Contents

I. This Action

II. Background

III. Response to Comments

IV. Final Action

V. Statutory and Executive Order Reviews

I. This Action

EPA is taking final action to approve Georgia's October 21, 2009, SIP revision to meet RFP plan ¹ requirements of the Clean Air Act (CAA or Act) for the Atlanta Area.² The RFP plan demonstrates that, during the period of 2002 through 2008, NOX emissions will be reduced by at least 15 percent for the 13-County portion ³ of the Atlanta Area (hereafter referred to as the “13-County Area”) and VOC emissions will be reduced by at least 15 percent for the seven-county portion ⁴ of the Atlanta Area (hereafter referred to as the “7-County Area”). As part of the RFP, EPA is approving the 2008 VOC MVEB and the 2008 NOX MVEB, which were included in the October 21, 2009, RFP plan for the Atlanta Area. EPA is taking this action because it is consistent with CAA requirements for RFP. The MVEB for the Atlanta Area, expressed in tons per day (tpd), are provided in Table 1 below. Through this action, EPA is also finding adequate the MVEBs for transportation conformity purposes for the 1997 8-hour standard.

¹ For the 1997 8-hour ozone NAAQS, the plan to demonstrate reasonable further progress is known as the RFP plan; whereas the plan to demonstrate reasonable further progress for the 1-hour ozone NAAQS is known as the Rate-of-Progress (ROP) plan.

² Georgia previously submitted an ROP plan (also referred to as the 15 Percent VOC Plan) for the portion of the Atlanta Area that was previously designated nonattainment for the former 1-hour ozone NAAQS. EPA approved Georgia's ROP plan for the 1-hour ozone NAAQS for the Atlanta Area on April 26, 1999. See 64 FR 20196.

³ The 13-County portion is comprised of the counties designated nonattainment in the 1-hour ozone nonattainment area: Cherokee, Clayton, Cobb, Coweta, DeKalb, Douglas, Fayette, Forsyth, Fulton, Gwinnett, Henry, Paulding, and Rockdale. See 56 FR 56694, November 6, 1991.

⁴ Seven additional “ring” counties were added to the original 1-hour ozone nonattainment area for the 8-hour ozone nonattainment designations. These additional counties are: Barrow, Bartow, Carroll, Hall, Newton, Spalding, and Walton. See 69 FR 23857, April 30, 2004.

Table 1—MVEB for the 1997
8-Hour Ozone Atlanta Area
| VOC | NOX
2008 20-County MVEB (tpd)
Total | 171.83 | 272.67

For more detailed information on the RFP plan, please see the direct final rulemaking published on May 29, 2013, at 78 FR 32135.

II. Background

A. General Background

The Atlanta Area was designated nonattainment for the 1997 8-hour ozone NAAQS on April 30, 2004 (effective June 15, 2004), using 2001-2003 ambient air quality data. See 69 FR 23857, April 30, 2004 (codified at 40 CFR 81.311). The Atlanta Area is comprised of the 13 counties of the former 1-hour ozone nonattainment area plus seven additional “ring” counties. On June 23, 2011, EPA determined that the Atlanta Area attained the 1997 8-hour ozone NAAQS. See 76 FR 36873. As a result of the determination of attainment, the requirements for the Area to submit an attainment demonstration and associated reasonable available control measures (RACM), RFP plan, contingency measures, and other planning SIP revisions related to attainment of the 1997 8-hour ozone NAAQS were suspended. Despite the determination of attainment, Georgia opted to leave its previously submitted SIP submission related to the RFP requirements for the 1997 8-hour ozone NAAQS before EPA for action. Georgia submitted its RFP plan, as well as two additional SIP revisions under a separate cover letter, on October 21, 2009, related to attainment of the 1997 8-hour ozone NAAQS in the Atlanta Area. Today's rulemaking is approving only the RFP plan submittal, including the associated MVEB. On May 29, 2013 (78 FR 32135), EPA published a direct final rule approving Georgia's October 21, 2009, SIP submission addressing the RFP plan requirements, including NOX and VOC MVEB, for the Atlanta Area. EPA published an accompanying proposed approval in the event that comments were received such that the direct final rule needed to be withdrawn. Specifically, in the direct final rule, EPA stated that if adverse comments were received by June 28, 2013, the rule would be withdrawn and not take effect, but that the proposed rule would still remain in effect and that an additional public comment period would not be instituted if EPA could sufficiently address any comments received on the direct final rulemaking. On June 28, 2013, EPA received comments from a single commenter and, therefore, EPA withdrew the direct final rule. EPA is now taking action to approve Georgia's October 21, 2009, SIP revision as it relates to the RFP plan requirements for the 1997 8-hour ozone NAAQS.

B. Background for Rate-of-Progress (ROP) Requirements for the 1-Hour Ozone NAAQS

Because Atlanta was classified as a “serious” nonattainment area under the 1-hour ozone NAAQS, Georgia was required to develop a SIP to reduce emissions of VOC in the 13-County Atlanta 1-hour ozone nonattainment area by 15 percent from 1990 to 1996. This plan, also known as Georgia's ROP plan SIP or the 15 Percent VOC Plan, was approved on April 26, 1999. See 64 FR 20186.

For the 1-hour ozone NAAQS, the CAA also requires post-1996 emission reductions of VOC and/or NOX totaling 3 percent per year, averaged over each consecutive three-year period beginning in 1996 and continuing through the attainment date. Georgia chose to rely solely on NOX emission reductions in its post-1996 ROP SIP (the 9 Percent Plan). This plan was required to describe how Georgia would achieve RFP towards attaining the 1-hour ozone NAAQS between 1996 and 1999, the attainment deadline for serious nonattainment areas. Georgia's 9 Percent Plan was approved on March 19, 1999. See 64 FR 13348.

On September 26, 2003, EPA re-classified the 13-county Atlanta 1-hour ozone nonattainment area to “severe.” See 68 FR 55469. Among other requirements, this reclassification required submission of a severe area post-1999 ROP SIP. Georgia submitted the post-1999 ROP SIP on December 24, 2003. The Atlanta severe area post-1999 ROP SIP contained a description of how the 3 percent per year reductions in ozone precursor emissions, required over the period from November 15, 1999, through November 15, 2004, would be achieved. It also contained MVEB for the Atlanta 1-hour ozone nonattainment area. EPA approved Georgia's post-1999 ROP SIP for the Atlanta Area on July 19, 2004 (69 FR 42880). EPA's approval of Georgia's post-1999 ROP SIP for the Atlanta Area completed the State's ROP obligation for the 1-hour ozone NAAQS.

C. Background for RFP Requirements for the 1997 8-Hour Ozone NAAQS

On November 29, 2005 (70 FR 71612), as revised on June 8, 2007 (72 FR 31727), EPA published a rule entitled “Final Rule To Implement the 8-Hour Ozone National Ambient Air Quality Standard—Phase 2; Final Rule To Implement Certain Aspects of the 1990 Amendments Relating to New Source Review and Prevention of Significant Deterioration as They Apply in Carbon Monoxide, Particulate Matter and Ozone NAAQS; Final Rule for Reformulated Gasoline” (hereafter referred to as the Phase 2 Rule). Section 182(b)(1) of the CAA and EPA's Phase 2 Rule ⁵ require a state, for each 1997 8-hour ozone nonattainment area that is classified as moderate, to submit an emissions inventory and a RFP plan to show how the state will reduce emissions of VOC.

⁵ RFP regulations are at 40 CFR 51.910.

Specifically, in ozone nonattainment areas with air quality classified as “moderate” or worse for the 1997 8-hour ozone NAAQS, the RFP ⁶ requirement prescribes emission reductions from the baseline totaling 15 percent within six years of the base year (i.e., by the end of 2008). Per 40 CFR part 51.910(a)(1)(iii), moderate and higher classification areas of which a portion has an approved 1-hour ozone 15 Percent VOC Plan can choose to treat the nonattainment area as two parts, each with a separate RFP target, and may substitute reductions in NOX for VOC in the sub-area with the approved 15 Percent Plan. The 15-percent reduction for the sub-area without an approved 1-hour ozone 15 Percent VOC Plan, however, must be achieved entirely through VOC reductions. As noted previously, seven additional “ring” counties were added to the original 1-hour ozone nonattainment area for the 1997 8-hour ozone nonattainment designations. Georgia relied solely on NOX emission reductions for the 13-County portion of the Atlanta Area with an approved 15 Percent VOC Plan and relied solely on VOC reductions for the seven “ring” counties.

⁶ Pursuant to CAA section 172(c)(9), RFP plans must include contingency measures that will take effect without further action by the State or EPA, which includes additional controls that would be implemented if the Area fails to reach the RFP milestones. While the CAA does not specify the type of measures or quantity of emissions reductions required, EPA provided guidance interpreting the CAA that implementation of these contingency measures would provide additional emissions reductions of up to 3 percent of the adjusted base year inventory in the year following the RFP milestone year (i.e., in this case 2008). For more information on contingency measures please see the April 16, 1992, General Preamble (57 FR 13498, 13510) and the November 29, 2005, Phase 2 8-hour ozone standard implementation rule (70 FR 71612, 71650). Finally, RFP plans must also include a MVEB for the precursors for which the plan is developed.

III. Response to Comments

As noted, EPA received comments from a single commenter. A summary of the comments received and EPA's response is provided below.

Comment 1: The Commenter contends that “EPA cannot approve Georgia's RFP plan until the measures which it relies upon can provide measurable and creditable reductions.” Specifically, the Commenter asserts that Georgia Rule 391-3-1-.02(2)(jjj) (“Rule (jjj)”) serves as the primary basis for achieving more stringent limits on the amount of NOX emitted by coal-fired electrical power plants. The Commenter believes that because Rule (jjj) does not require maximum heat input for each subject unit, that the rule allows for significant variability in the legally-allowable total amount of NOX emitted, and as such, emissions reductions associated with this rule are not creditable. The Commenter also asserts that since each coal-fired power plant's “source-specific alternative emission limits” were determined using only one point of reference, those limits may not be representative of the unit's actual emissions at later points in time. Finally, the Commenter claims that title V permits for Georgia coal-fire electrical power plants do not contain enforceable heat input limits.

Response 1: The Commenter's assertion that the Rule (jjj) measures relied on as part of the Georgia RFP plan do not provide for measurable and creditable reductions is incorrect. EPA notes that the Rule (jjj) and the title V permit requirements cited by Commenter are specific to point sources, however, the RFP plan's overall 15 percent reduction from the 2008 adjusted base year emissions inventory may come from any emission source sector (i.e., point, area, nonroad, or mobile emissions), and Georgia projected the majority of its reductions to be from on-road and non-road mobile emissions. Notwithstanding the relatively small contribution of the Rule (jjj) emission reductions to the RFP plan's reductions, the emission reductions associated with Rule (jjj) are creditable in the RFP plan since the rule is a legally enforceable SIP provision and, as described in the proposed rule, EPA finds the methodology used by GA EPD to estimate the emission reductions from Rule (jjj) to be appropriate. See 78 FR 32135, 32138-142. Further, because the six-year RFP plan period has already occurred, EPA has been able to review the Agency's Acid Rain database ⁷ and verify that the three sources subject to Rule (jjj) in the State did reduce emissions by the quantity estimated in the RFP plan submittal. The actual NOX emission reductions from May through September 2002 to the comparable period in 2008 are consistent with these estimates.

⁷ http://ampd.epa.gov/ampd/.

Finally, EPA notes that the commenter does not explain why a maximum heat input limit ⁸ would be relevant to this submittal. While the maximum heat input would be relevant in a calculation of allowable emissions, the emissions reductions estimates for purposes of an RFP plan may be based on the expected actual emissions from the facility on a typical summer day.⁹ There is no inherent connection between the necessary data used to prepare the RFP plan submittal and the maximum heat input allowed. The maximum heat input, which is a measure of the maximum hourly capacity of a unit to burn fuel, is not appropriate for calculating expected actual emissions because it fails to take into account the expected operation of the emission sources. For instance, many of the coal-fired power plants referenced by the commenter typically operate somewhat below their maximum heat input rate depending on age and condition of the boiler. Further, most units do not operate continuously, so utilization may also be relevant to an expected actual emission projection. Consequently, the typical summer day emission projections employed in Georgia's RFP plan, which are a function of total summer heat input and projected actual operating hours, provide a more appropriate basis for the emissions calculations included with the RFP plan being approved through this notice. As noted above, EPA has also reviewed these projected emission reductions with the actual emission reductions achieved during the RFP plan period and found them to be consistent with the plan's projected emissions.

⁸ The maximum heat input is a measure of the maximum hourly capacity of a unit to burn fuel. Generally, this is the maximum rate for the design of the boiler, which typically represents the physical limitation of the boiler.

⁹ The General Preamble for the Implementation of Title I of the Clean Air Act Amendments of 1990 describes in relevant part EPA's basis for reliance upon the “typical summer day” approach for purposes of projecting expected actual emissions. See 57 FR 13498, 13507.

Comment 2: The Commenter stated “[w]ith respect to the measures meant to address NOX emissions from EGU's, EPA cannot approve Rule (jjj) unless there are maximum heat inputs incorporated into the rule.”

Response 2: As the Commenter noted, EPA has already approved Rule (jjj). See 64 FR 67491 and 74 FR 62249. This rulemaking does not contemplate action on Rule (jjj) and thus this comment regarding the approvability is outside of the scope of this rulemaking.

IV. Final Action

EPA is taking final action to approve an October 21, 2009, SIP revision to meet the RFP requirements for the Atlanta Area for the 1997 8-hour ozone NAAQS. Additionally, EPA is approving the NOX and VOC MVEB for the Atlanta Area that were included in Georgia's RFP plan. These budgets will be available for use by the transportation conformity partners on November 4, 2013. Furthermore, EPA is finding the budgets adequate. These actions are being taken pursuant to section 110 of the CAA.

V. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 3, 2014. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Ozone, Reporting and recordkeeping requirements, and Volatile organic compounds.

Dated: October 21, 2013.
Beverly H. Banister,
Acting Regional Administrator, Region 4.

40 CFR part 52 is amended as follows:

PART 52—APPROVAL AND PROMULGATION OF PLANS

1. The authority citation for part 52 continues to read as follows:

Authority: 42 U.S.C. 7401 et seq.

Subpart II—Georgia

2. Section 52.570(e), is amended by revising the table in paragraph (e) to read as follows:

§ 52.570 Identification of plan.

* * * * *

(e) * * *

EPA-Approved Georgia Non-Regulatory Provisions
Name of nonregulatory SIP provision | Applicable geographic or nonattainment area | State submittal date/effective date | EPA approval date | Explanation
High Occupancy Vehicle (HOV) lane on I-85 from Chamblee-Tucker Road to State Road 316. High Occupancy Toll (HOT) lane on I-85 from Chamblee-Tucker Road to State Road 316 | Atlanta Metropolitan Area | 11/15/93 and amended on 6/17/96 and 2/5/10 | 3/18/99, 4/26/99 and 11/5/09. |
Clean Fuel Vehicles Revolving Loan Program | Atlanta Metropolitan Area | 6/17/96 | 4/26/99. |
Regional Commute Options Program and HOV Marketing Program | Atlanta Metropolitan Area | 6/17/96 | 4/26/99. |
HOV lanes on I-75 and I-85 | Atlanta Metropolitan Area | 6/17/96 | 4/26/99. |
Two Park and Ride Lots: Rockdale County-Sigman at I-20 and Douglas County-Chapel Hill at I-20 | Atlanta Metropolitan Area | 6/17/96 | 4/26/99. |
MARTA Express Bus routes (15 buses) | Atlanta Metropolitan Area | 6/17/96 | 4/26/99. |
Signal preemption for MARTA routes #15 and #23 | Atlanta Metropolitan Area | 6/17/96 | 4/26/99. |
Improve and expand service on MARTA's existing routes in southeast DeKalb County | Atlanta Metropolitan Area | 6/17/96 | 4/26/99. |
Acquisition of clean fuel buses for MARTA and Cobb County Transit | Atlanta Metropolitan Area | 6/17/96 | 4/26/99. |
ATMS/Incident Management Program on I-75/I-85 inside I-285 and northern ARC of I-285 between I-75 and I-85 | Atlanta Metropolitan Area | 6/17/96 | 4/26/99. |
Upgrading, coordination and computerizing intersections | Atlanta Metropolitan Area | 6/17/96 | 4/26/99. |
[Reserved]
Atlantic Steel Transportation Control Measure | Atlanta Metropolitan Area | 3/29/00 | 8/28/00. |
Procedures for Testing and Monitoring Sources of Air Pollutants | Atlanta Metropolitan Area | 7/31/00 | 7/10/01. |
Enhanced Inspection/Maintenance Test Equipment, Procedures and Specifications | Atlanta Metropolitan Area | 9/20/00 | 7/10/01. |
Preemption Waiver Request for Low-RVP, Low-Sulfur Gasoline Under Air Quality Control Rule 391-3-1-.02(2)(bbb) | Atlanta Metropolitan Area | 5/31/00 | 2/22/02. |
Technical Amendment to the Georgia Fuel Waiver Request of May 31, 2000 | Atlanta Metropolitan Area | 11/9/01 | 2/22/02. |
Georgia's State Implementation Plan for the Atlanta Ozone Nonattainment Area | Atlanta Metropolitan Area | 7/17/01 | 5/7/02. |
Post-1999 Rate of Progress Plan | Atlanta Metropolitan Area | 12/24/03 | 7/19/04, 69 FR 42884. |
Severe Area Vehicle Miles Traveled (VMT SIP) for the Atlanta 1-hour severe ozone nonattainment area | Atlanta 1-hour ozone severe nonattainment area | 6/30/04 | 6/14/05, 70 FR 34358. |
Atlanta 1-hour ozone attainment area 2015 maintenance plan | Atlanta severe 1-hour ozone maintenance area | 2/1/05 | 6/14/05, 70 FR 34660. |
Attainment Demonstration for the Chattanooga Early Action Area | Walker and Catoosa Counties | 12/31/04 | 8/26/05, 70 FR 50199. |
Attainment Demonstration for the Lower Savannah-Augusta Early Action Compact Area | Columbia and Richmond Counties | 12/31/04 | 8/26/05, 70 FR 50195. |
Alternative Fuel Refueling Station/Park and Ride Transportation Center, Project DO-AR-211 is removed | Douglas County, GA | 9/19/06 | 11/28/06, 71 FR 68743. |
Macon 8-hour Ozone Maintenance Plan | Macon, GA encompassing a portion of Monroe County | 6/15/07 | 9/19/07, 72 FR 53432. |
Murray County 8-hour Ozone Maintenance Plan | Murray County | 6/15/07 | 10/16/07, 72 FR 58538. |
Atlanta Early Progress Plan | Barrow, Bartow, Carroll, Cherokee, Clayton, Cobb, Coweta, DeKalb, Douglas, Fayette, Forsyth, Fulton, Gwinnett, Hall, Henry, Newton, Paulding, Rockdale, Spalding and Walton counties | 1/12/07 | 2/20/08, 73 FR 9206. |
Rome; 1997 Fine Particulate Matter 2002 Base Year Emissions Inventory | Floyd County | 10/27/2009 | 1/12/12, 77 FR 1873. |
Chattanooga; Fine Particulate Matter 2002 Base Year Emissions Inventory | Catoosa and Walker Counties | 10/27/09 | 2/8/12; 77 FR 6467. |
110(a)(1) and (2) Infrastructure Requirements for the 1997 8-Hour Ozone National Ambient Air Quality Standards | Georgia | 10/13/2007 | 2/6/2012, 77 FR 5706. |
Atlanta 1997 Fine Particulate Matter 2002 Base Year Emissions Inventory | Barrow, Bartow, Carroll, Cherokee, Clayton, Cobb, Coweta, DeKalb, Douglas, Fayette, Forsyth, Fulton, Gwinnett, Hall, Henry, Newton, Paulding, Rockdale, Spalding and Walton Counties in their entireties and portions of Heard and Putnam Counties | 07/06/2010 | 3/1/2012, 77 FR 12487. |
Macon 1997 Fine Particulate Matter 2002 Base Year Emissions Inventory | Bibb County and Monroe County | 8/17/2009 | 3/02/12, 77 FR 12724. |
Atlanta 1997 8-Hour Ozone 2002 Base-Year Emissions Inventory | Barrow, Bartow, Carroll, Cherokee, Clayton, Cobb, Coweta, DeKalb, Douglas, Fayette, Forsyth, Fulton, Gwinnett, Hall, Henry, Newton, Paulding, Rockdale, Spalding and Walton Counties in their entireties | 10/21/2009 | 4/24/2012, 77 FR 24399. |
Regional Haze Plan | Statewide | 2/11/10 | 6/28/12, 77 FR 38501. |
Regional Haze Plan Supplement (including BART and Reasonable Progress emissions limits) | Statewide | 11/19/10 | 6/28/12, 77 FR 38501. |
110(a)(1) and (2) Infrastructure Requirements for 1997 Fine Particulate Matter National Ambient Air Quality Standards | Georgia | 7/23/2008 | 10/25/2012, 77 FR 65125 | With the exception of 110(a)(2)(D)(i).
110(a)(1) and (2) Infrastructure Requirements for 2006 Fine Particulate Matter National Ambient Air Quality Standards | Georgia | 10/21/2009 | 10/25/2012, 77 FR 65125 | With the exception of 110(a)(2)(D)(i).
Negative Declaration for Control of VOC Emissions from Reactor Processes and Distillation Operations in Synthetic Organic Chemical Manufacturing Industry (SOCMI) EPA-450/4-91-031, August 1993 | Atlanta 1997 8-Hour Ozone Nonattainment Area | 10/21/2009 | 09/28/2013. |
Negative Declaration for Control of VOC Emissions from Equipment Leaks from Natural Gas/Gasoline Processing Plants EPA-450/3-83-007, December 1983 | Atlanta 1997 8-Hour Ozone Nonattainment Area | 10/21/2009 | 09/28/2013. |
Negative Declaration for Control of VOC Leaks from Synthetic Organic Chemical Polymer and Resin Manufacturing Equipment EPA-450/3-83-006, March 1984 | Atlanta 1997 8-Hour Ozone Nonattainment Area | 10/21/2009 | 09/28/2013. |
Negative Declaration for Control of VOC Emissions from Air Oxidation Processes in Synthetic Organic Chemical Manufacturing Industry (SOCMI), EPA-450/3-84-015, December 1984 | Atlanta 1997 8-Hour Ozone Nonattainment Area | 10/21/2009 | 09/28/2013. |
110(a)(1) and (2) Infrastructure Requirements for 1997 Fine Particulate Matter National Ambient Air Quality Standards | Georgia | 7/23/2008 | 4/12/2013 | Addressing element 110(a)(2)(D)(i)(II) prong 3 only.
110(a)(1) and (2) Infrastructure Requirements for 2006 Fine Particulate Matter National Ambient Air Quality Standards | 110(a)(1) and (2) Infrastructure Requirements for 1997 Fine Particulate Matter National Ambient Air Quality Standards | 10/21/2009 | 4/12/2013 | Addressing element 110(a)(2)(D)(i)(II) prong 3 only.
1997 8-Hour Ozone Reasonable Further Progress Plan for the Atlanta Area | Atlanta 1997 8-Hour Ozone Nonattainment Area | 10/21/2009 | 11/4/13. |

[FR Doc. 2013-25780 Filed 11-1-13; 8:45 am]

BILLING CODE 6560-50-P